AGENCY FOR INTERNATIONAL DEVELOPMENT

48 CFR Parts 704, 713, 714, 715, 744, and 752

RIN 0412-AA63

Partner Vetting in USAID Acquisitions

AGENCY: United States Agency for International Development.

ACTION: Proposed rule; correction.

SUMMARY: This document makes corrections to the preamble and clause of a proposed rule published in the Federal Register of June 26, 2009, regarding Partner Vetting in USAID Acquisitions. This correction corrects the fax number provided in the ADDRESSES section of the rule and a paragraph reference in the definitions section of clause 752.204-71.

FOR FURTHER INFORMATION CONTACT: Jennifer Norling, 202-712-1807.

Corrections

In proposed rule FR Doc. E9-15012, beginning on page 30494 in the issue of June 26, 2009, make the following corrections:

1. In the ADDRESSES section, on page 30494 in the 2nd column, correct the Fax number in the third bullet to read “Fax: 202-216-3395”.

2. In line 2 of the 48 CFR 752.204-71(b) definition of “Vetting Official”, on page 30498 in the 2nd column, correct the paragraph reference to read “paragraph (d) of this clause”.

Dated: June 26, 2009.
Diane Howard,
Chief, Policy Division, Office of Acquisition and Assistance, U.S. Agency for International Development.

[FR Doc. E9-16227 Filed 7-8-09; 8:45 am]

BILLING CODE P